SOCIAL SECURITY ADMINISTRATION

[Docket No. SSA-2017-0030]

Social Security Rulings (SSRs) 96-3p and 96-4p; Rescission of SSRs 96-3p and 96-4p

AGENCY: Social Security Administration.

ACTION: Notice of rescission of SSRs.

SUMMARY: We give notice of the rescission of SSRs 96-3p and 96-4p.

DATES: We will apply this rescission notice on June 14, 2018.

FOR FURTHER INFORMATION CONTACT: Dan O'Brien, Office of Vocational, Evaluation, and Process Policy in the Office of Disability Policy, Social Security Administration, 6401 Security Boulevard, Baltimore, MD 21235-6401, (410) 597-1632. For information on eligibility or filing for benefits, call our national toll-free number, 1-800-772-1213 or visit our internet site, Social Security Online, at http://www.socialsecurity.gov.

SUPPLEMENTARY INFORMATION: We use SSRs to make available to the public precedential decisions relating to the Federal old-age, survivors, disability, supplemental security income, and special veterans benefits programs. We may base SSRs on determinations or decisions made in our administrative review process, Federal court decisions, decisions of our Commissioner, opinions from our Office of the General Counsel, or other interpretations of law and regulations.

In accordance with 20 CFR 402.35(b)(1), we give notice that we are rescinding the following SSRs:

• SSR 96-3p: Titles II and XVI: Considering Allegations of Pain and Other Symptoms in Determining Whether a Medically Determinable Impairment is Severe.

• SSR 96-4p: Titles II and XVI: Symptoms, Medically Determinable Physical and Mental Impairments, and Exertional and Nonexertional Limitations.

These SSRs are unnecessarily duplicative of SSR 16-3p Titles II and XVI: Evaluation of Symptoms in Disability Claims, which was applicable on March 28, 2016, published in the Federal Register on March 16, 2016, 81 FR 14166.¹ SSR 16-3p, a more comprehensive statement of our policy on symptoms, explains how we evaluate the extent to which alleged symptoms limit an adult's ability to perform work-related activities and a child's ability to function effectively in an age-appropriate manner.

¹ On March 24, 2016, we published a correction notice in the Federal Register that amended and corrected the effective date of SSR 16-3p (81 FR 15776). On October 25, 2017, we published a notice of Social Security Ruling in the Federal Register that changes the “effective date” to “applicable date” and revises the Social Security Ruling to explain how we apply the Ruling as it relates to the applicable date (82 FR 49462).

SSR 96-3p clarified how adjudicators should consider allegations of pain and other symptoms in determining whether a medically determinable impairment (MDI) is severe. SSR 16-3p explains our two-step process for evaluating an individual's symptoms where, at the first step, we determine whether the individual has an MDI that could reasonably be expected to produce the individual's alleged symptoms. At the second step, we evaluate the intensity and persistence of an individual's symptoms such as pain and determine the extent to which an individual's symptoms limit his or her ability to perform work-related activities for an adult or to function independently, appropriately, and effectively in an age-appropriate manner for a child with a title XVI disability claim. SSR 16-3p explains that we will consider symptoms and functional limitations to determine whether an impairment is severe unless the objective medical evidence alone establishes a severe MDI or combination of impairments that meets our duration requirement. Therefore, the information contained in SSR 96-3p duplicates policy in SSR 16-3p.

SSR 96-4p explained that no symptom, by itself, could establish the existence of a medically determinable physical or mental impairment. In SSR 16-3p, we clarified that an individual's symptoms alone are not enough to establish the existence of a physical or mental impairment or disability, and that we will not find an individual disabled based on alleged symptoms alone. Therefore, the information contained in SSR 96-4p duplicates policy in SSR 16-3p. Consequently, we are rescinding SSRs 96-3p and 96-4p.

(Catalog of Federal Domestic Assistance, Programs Nos. 96.001, Social Security—Disability Insurance; 96.002, Social Security— Retirement Insurance; 96.004, Social Security—Survivors Insurance; 96.006—Supplemental Security Income.)

Nancy A. Berryhill,
Acting Commissioner of Social Security.

[FR Doc. 2018-12820 Filed 6-13-18; 8:45 am]

BILLING CODE 4191-02-P